DEPARTMENT OF TRANSPORTATION

Federal Railroad Administration

[Docket Number FRA-2018-0097]

Petition for Special Approval of Alternate Standard

Under part 238 of Title 49 of the Code of Federal Regulations (CFR), this provides the public notice that by a letter dated November 2, 2018, the American Public Transportation Association (APTA) petitioned the Federal Railroad Administration (FRA) for a Special Approval of an alternate standard for 49 CFR 238.311(a), Single car test, as prescribed in 49 CFR 238.21(b), Special approval procedure. FRA assigned the request docket number FRA-2018-0097.

APTA requests consideration for Special Approval of the submitted alternate standard identified as APTA PR-M-S-005-98, Rev. 4, “Code of Tests for Passenger Car Equipment Using Single Car Testing,” as the latest update to APTA Standard SS-M-005-98, “Code of Tests for Passenger Car Equipment Using Single Car Testing Device,” as specified in 49 CFR 238.311. APTA states the new revision updates procedures to assure uniform full-service reductions, the order of tests has been rearranged to facilitate the testing process, and provisions for testing electronic air brakes have been added. A summary of the changes made to the previous revisions can be found on page 26 of the proposed alternate standard, which has been posted to the public docket for this proceeding. APTA further states that because no fundamental changes to the base air test requirements were made, no detailed analysis of safety equivalency with the previous approved standard is necessary.

Copies of these documents and the petition, as well as any written communications concerning the petition, are available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by January 3, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also http://www.regulations.gov/#!privacyNotice for the privacy notice of regulations.gov.

Issued in Washington, DC.
Robert C. Lauby,
Associate Administrator for Safety Chief Safety Officer.

[FR Doc. 2018-26291 Filed 12-3-18; 8:45 am]

BILLING CODE 4910-06-P